DEPARTMENT OF COMMERCE

International Trade Administration

A-533-838

Carbazole Violet Pigment 23 From India: Final Results of Antidumping Duty Administrative Review

AGENCY: Import Administration, International Trade Administration, Department of Commerce.

SUMMARY: On September 8, 2008, the Department of Commerce published the preliminary results of the administrative review of the antidumping duty order on carbazole violet pigment 23 from India. The review covers two manufacturers/exporters, Alpanil Industries and Pidilite Industries Limited. The period of review is December 1, 2006, through November 30, 2007. We gave interested parties an opportunity to comment on the preliminary results but no interested parties did so. We have made no changes in the margin calculations for the final results of review. The final weighted-average margins are listed below in the “Final Results of the Review” section of this notice.

EFFECTIVE DATE: December 5, 2008.

FOR FURTHER INFORMATION CONTACT: Yang Jin Chun or Hermes Pinilla, AD/CVD Operations, Office 5, Import Administration, International Trade Administration, U.S. Department of Commerce, 14th Street and Constitution Avenue, NW, Washington, DC 20230; telephone: (202) 482-5760 or (202) 482-3477, respectively.

SUPPLEMENTARY INFORMATION:

Background

On September 8, 2008, the Department of Commerce (the Department) published the preliminary results of the administrative review of the antidumping duty order on carbazole violet pigment 23 (CVP 23) from India and invited interested parties to comment. See Carbazole Violet Pigment 23 from India: Preliminary Results of Antidumping Duty Administrative Review, 73 FR 52012 (September 8, 2008) (Preliminary Results). On October 7, 2008, the Department received a case brief from Alpanil Industries (Alpanil). Because Alpanil's case brief did not meet several filing requirements as stated in 19 CFR 351.303 and 304, we rejected and returned Alpanil's case brief on October 14, 2008, and requested that Alpanil resubmit its case brief by October 17, 2008. Alpanil did not resubmit its case brief. No other party submitted a case brief.

Scope of the Order

The merchandise subject to the order is CVP 23 identified as Color Index No. 51319 and Chemical Abstract No. 6358-30-1, with the chemical name of diindolo [3,2-b:3′,2′-m] ¹ triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the order. The merchandise subject to the order is classifiable under subheading 3204.17.90.40 of the Harmonized Tariff Schedule of the United States (HTSUS). Although the HTSUS subheading is provided for convenience and customs purposes, the written description of the scope of the order is dispositive.

¹ The bracketed section of the product description, [3,2-b:3′,2′-m], is not business-proprietary information. In this case, the brackets are simply part of the chemical nomenclature. See Preliminary Results.

Use of Adverse Facts Available

The Department found in the Preliminary Results that Alpanil and Pidilite Industries Limited (Pidilite) failed to cooperate to the best of their ability in responding to the Department's requests for information and thereby impeded the Department's proceeding. Therefore, in accordance with section 776(b) of the Tariff Act of 1930, as amended (the Act), and 19 CFR 351.308(c), the Department preliminarily selected 66.59 percent as the adverse facts-available dumping margin. For the Preliminary Results, we also subtracted the portion of the applicable countervailing duty rate attributable to export subsidies (17.02 percent) from the final dumping margin of 66.59 percent in order to calculate the cash-deposit rate of 49.57 percent. See Preliminary Results.

The Department did not receive any comments regarding its preliminary application of the adverse facts-available dumping margin to Alpanil and Pidilite. Therefore, for the final results, the Department has not altered its analysis or decision to apply the adverse facts-available dumping margin to Alpanil and Pidilite.

Final Results of the Review

As a result of our review, we determine that the following weighted-average dumping margins on CVP 23 from India exist for the period December 1, 2006, through November 30, 2007:

Company | Margin (percent) | Cash-Deposit Rate Adjusted For Export Subsidies
Alpanil | 66.59 | 49.57
Pidilite | 66.59 | 49.57

Assessment of Duties

The Department will determine, and U.S. Customs and Border Protection (CBP) shall assess, antidumping duties on all appropriate entries. We will issue appropriate assessment instructions directly to CBP 15 days after publication of the final results of review. We will instruct CBP to assess the antidumping liability for all shipments of CVP 23 from India produced and/or exported by Alpanil or Pidilite and entered, or withdrawn from warehouse, for consumption during the period of review. We will instruct CBP to assess antidumping duties at the adjusted rate of 49.57 percent if CBP has collected the appropriate countervailing duties on the same entry. We will instruct CBP to assess antidumping duties at the unadjusted rate of 66.59 percent if the appropriate countervailing duties are not collected by CBP.

Cash-Deposit Requirements

The following deposit requirements will be effective upon publication of this notice of final results of administrative review for all shipments of CVP 23 from India entered, or withdrawn from warehouse, for consumption on or after the date of publication, as provided by section 751(a)(2)(C) of the Act: (1) The cash-deposit rates for Alpanil and Pidilite will be 49.57 percent; (2) if the exporter is not a firm covered in this review, a previous review, or the less-than-fair-value investigation but the manufacturer is, the cash-deposit rate will be the rate established for the most recent period for the manufacturer of the merchandise; (3) if neither the exporter nor the manufacturer has its own rate, the cash-deposit rate will be 27.48 percent, the all-others rate published in Notice of Amended Final Determination of Sales at Less Than Fair Value and Antidumping Duty Order: Carbazole Violet Pigment 23 from India, 69 FR 77988, 77989 (December 29, 2004). These deposit requirements shall remain in effect until further notice.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

Notification Regarding Administrative Protective Orders

This notice also serves as a reminder to parties subject to administrative protective orders (APO) of their responsibility concerning the disposition of proprietary information disclosed under APO as explained in the APO itself. See 19 CFR 351.305(a)(3). Timely written notification of the return/destruction of APO materials or conversion to judicial protective order is hereby requested. Failure to comply with the regulations and terms of an APO is a sanctionable violation.

We are issuing and publishing these final results of administrative review in accordance with sections 751(a)(1) and 777(i)(1) of the Act.

Dated: December 1, 2008.
David M. Spooner,
Assistant Secretary for Import Administration.

[FR Doc. E8-28856 Filed 12-4-08; 8:45 am]

BILLING CODE 3510-DS-S